DEPARTMENT OF AGRICULTURE

Commodity Credit Corporation and Farm Service Agency

Hurricane Damage Assistance for 1999 Crop

AGENCIES: Commodity Credit Corporation and Farm Service Agency, USDA.

ACTION: Notice of relief available to reduce the amount of loan indebtedness on certain 1999-crop loans.

SUMMARY: This notice announces the intent of the Secretary of Agriculture, pursuant to new legislation, to release up to $81 million of loan indebtedness for certain 1999 crop loans made in North Carolina by the Commodity Credit Corporation where the collateral was destroyed or damaged by Hurricanes Dennis, Floyd or Irene. To assure all are given a chance to be heard, this notice sets out the statute and invites all persons who believe that they may be entitled to relief under the terms of the statute as well as all other interested persons to comment or suggest how eligibility for relief should be determined and how such relief should be administered.

DATES: Comments with respect to this notice must be received by October 27, 2000 to be assured of consideration.

ADDRESSES: Comments should be filed by the date set in this notice with Larry W. Mitchell, Deputy Administrator for Farm Programs, STOP 0510, 1400 Independence Avenue, SW, Washington, DC 20250-0510.

FOR FURTHER INFORMATION CONTACT: Thomas R. Burgess, telephone (202) 720-0156.

SUPPLEMENTARY INFORMATION: Section 2101 of Chapter 5 of the Fiscal Year 2001 Military Construction Appropriations (Pub. L. 106-246) provides in connection with North Carolina hurricane loses for up to $81 million for relief in connection with the 1999 crop year loans made by the Commodity Credit Corporation (CCC).

The entire Section reads as follows:

Sec. 2101. With respect to any 1999 crop year loan made by the Commodity Credit Corporation to a cooperative marketing association established under the laws of North Carolina, and to any person or entity in North Carolina obtaining a 1999 crop upland cotton marketing assistance loan, the Corporation shall reduce the amount of such outstanding loan indebtedness in an amount up to 75 percent of the amount of the loan applicable to any collateral (in the case of cooperative marketing associations of upland cotton producers and upland cotton producers, not to exceed $5,000,000 for benefits to such associations and such producers for up to 75 percent of the loss incurred by such associations and such producers with respect to upland cotton that had been placed under loan) that was produced in a county in which either the Secretary of Agriculture or the President of the United States declared a major disaster or emergency due to the occurrence of Hurricane Dennis, Floyd, or Irene if the Corporation determines that such collateral suffered any quality loss as a result of said hurricane: Provided, That if a person or entity obtains a benefit under this section with respect to a quantity of a commodity, no marketing loan gain or loan deficiency payment shall be made available under the Federal Agricultural Improvement and Reform Act of 1996 with respect to such quantity: Provided further, That no more than $81,000,000 of the funds of the Corporation shall be available to carry out this section: Provided further, That the entire amount shall be available only to the extent an official budget request for $81,000,000, that includes designation of the entire amount of the request as an emergency requirement as defined in the Balanced Budget and Emergency Deficit Control Act of 1985, as amended, is transmitted by the President to the Congress: Provided further, That the entire amount is designated by the Congress as an emergency requirement pursuant to section 251(b)(2)(A) of such Act.

This notice is intended to provide an opportunity for any person who believes that they are entitled to relief to provide comments on how the statutes eligibility provisions should be construed. Such comments should be addressed to Larry W. Mitchell, Deputy Administrator for Farm Programs, STOP 0510, 1400 Independence Avenue, SW, Washington, DC 20250-0510.

Following such comment, the Deputy Administrator will take such action as may be warranted taking into account, the comments and any other new information as may be relevant, including new legislation as may related to the use of such funds.

Signed at Washington, D.C., on October 4, 2000.
Keith Kelly,
Administrator, Farm Service Agency and Executive Vice President, Commodity Credit Corporation.

[FR Doc. 00-26106 Filed 10-11-00; 8:45 am]

BILLING CODE 3410-05-P